FEDERAL MARITIME COMMISSION

Notice of Agreement Filed

The Commission hereby gives notice of the filing of the following agreement under the Shipping Act of 1984. Interested parties may submit comments on the agreement to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 201159-002.

Agreement Name: Memorandum of Settlement of Local Conditions in the Port of New York and New Jersey.

Parties: International Longshoremen's Association, AFL-CIO; and the New York Shipping Association.

Filing Party: Donato Caruso; The Lambos Firm, LLP and Andre Mazzola; Marrinan & Mazzola Mardon, P.C.

Synopsis: The Agreement establishes local conditions for the Port of New York-New Jersey covering the period from October 1, 2018 through September 30, 2024.

Proposed Effective Date: 11/27/2018.

Location: https://www2.fmc.gov/FMC.Agreements.Web/Public/AgreementHistory/21311.

Dated: December 4, 2018.
Rachel Dickon,
Secretary.

[FR Doc. 2018-26684 Filed 12-7-18; 8:45 am]

BILLING CODE 6731-AA-P